INTERNATIONAL TRADE COMMISSION

[Investigation No. 731-TA-921 (Third Review)]

Folding Gift Boxes From China

Determination

On the basis of the record ¹ developed in the subject five-year review, the United States International Trade Commission (“Commission”) determines,² pursuant to the Tariff Act of 1930 (“the Act”), that revocation of the antidumping duty order on folding gift boxes from China would be likely to lead to continuation or recurrence of material injury to an industry in the United States within a reasonably foreseeable time.

¹ The record is defined in sec. 207.2(f) of the Commission's Rules of Practice and Procedure (19 CFR 207.2(f)).

² Commissioner Kearns did not participate in this five-year review.

Background

The Commission, pursuant to section 751(c) of the Act (19 U.S.C. 1675(c)), instituted this review on February 1, 2018 (83 FR 4679) and determined on May 7, 2018 that it would conduct an expedited review (83 FR 24341, May 25, 2018).

The Commission made this determination pursuant to section 751(c) of the Act (19 U.S.C. 1675(c)). It completed and filed its determination in this review on July 2, 2018. The views of the Commission are contained in USITC Publication 4800 (July 2018), entitled Folding Gift Boxes from China: Investigation No. 731-TA-921 (Third Review).

By order of the Commission.
Issued: June 26, 2018.
Lisa Barton,
Secretary to the Commission.

[FR Doc. 2018-14061 Filed 6-28-18; 8:45 am]

BILLING CODE 7020-02-P